DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patents are available for licensing: Patent No. 9,551,554 (Navy Case No. 200117): Cryogenically Generated Compressed Gas Core Projectiles and Related Methods Thereof//Patent No. 9,555,899 (Navy Case No. 102499): Mobile Arresting System//and Patent No. 9,546,984 (Navy Case No. 101269): System and Method for Cleaning a Couplant During Ultrasonic Testing.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil.

Authority: 35 U.S.C. 207, 37 CFR part 404.

Dated: February 28, 2017.
A.M. Nichols,
Judge Advocate General's Corps, U.S. Navy, Federal Register Liaison Officer.

[FR Doc. 2017-04283 Filed 3-3-17; 8:45 am]

BILLING CODE 3810-FF-P